POSTAL RATE COMMISSION

Plant Tours

AGENCY: Postal Rate Commission.

ACTION: Notice of Commission tour.

SUMMARY: A Postal Rate Commissioner and staff members will tour Chicago-area mailers' facilities and United States Postal Service (USPS) facilities in mid-September. The purpose of the tours is to observe printing and mailing operations.

DATES: September 11, 2002: Quebecor World Inc. and USPS facilities.

September 12, 2002: USPS facilities.

September 13, 2002: R.R. Donnelley and Sons.

FOR FURTHER INFORMATION CONTACT: Stephen L. Sharfman, General Counsel, 202-789-6818.

Steven W. Williams,
Secretary.

[FR Doc. 02-22850 Filed 9-9-02; 8:45 am]

BILLING CODE 7710-FW-M